FEDERAL COMMUNICATIONS COMMISSION

Notice of Public Information Collection Being Reviewed by the Federal Communications Commission for Extension under Delegated Authority, Comments Reque

November 23, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comments on this information collection should submit comments on January 26, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov. To view a copy of this information collection request (ICR) submitted to OMB: (1) Go to web page: http://www.reginfo.gov/public/do/PRAMain, (2) look for the section of the web page called ”Currently Under Review”, (3) click on the downward-pointing arrow in the ”Select Agency” box below the ”Currently Under Review” heading, (4) select ”Federal Communications Commission” from the list of agencies presented in the ”Select Agency” box, (5) click the ”Submit” button to the right of the ”Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-1130.

Title: National Broadband Plan Survey of Businesses.

Form No.: N/A.

Type of Review: Extension of a currently approved collection.

Respondents: Business or other for-profit and not-for-profit institutions.

Number of Respondents: 3,500 respondents; 3,500 responses.

Estimated Time Per Response: 16 minutes.

Frequency of Response: On occasion reporting requirement.

Obligation to Respond: Voluntary. Statutory authorities for this information collection is the Broadband Data Improvement Act of 2008, Pub. L. No. 110-385 and the American Reinvestment and Recovery Act of 2009, Pub. L. No. 111-5.

Total Annual Burden: 2,770 hours.

Privacy Act Impact Assessment: N/A.

Nature and Extent of Confidentiality: The survey contractor, as a matter of general practice, does not provide clients with information that directly identifies survey respondents, whether they are individuals or organizations. This includes telephone numbers, names, addresses, and other information. The vendor also informs respondents of the nature of the vendor's commitments in terms of handling their information. Generally, the promise is that the respondent will not be individually identified and that all analyses of the data will be of aggregate statistics, rather than an individual's answers.

Any information that the survey contractor obtains - whether in purchased sample or through the interview process - that could directly identify the company or the individual responding on behalf of the company will not be provided to the Commission by the survey contractor as a matter of vendor policy. The respondents will be told that such information will not be provided by the survey contractor to the Commission or any other third party.

Need and Uses: The Commission sought and obtain emergency processing of this information collection by the Office of Management and Budget (OMB) on November 19, 2009. Emergency requests to OMB are approved for only six months. The Commission is now seeking an extension (no change in the reporting requirement) in order to obtain the full three year clearance from the OMB.

To assist in developing the Broadband Plan that must be submitted to congress by February 17, 2010, the Omnibus Broadband Initiative within the Commission's Office of Strategic Planning plans to conduct a survey of businesses that focus on adoption and usage of broadband internet service. For the Broadband Plan, the focus on usage in the survey is crucial to formulating policy recommendations on how broadband can increase business productivity and economic growth in the United States. The business survey is being conducted pursuant to the Broadband Data Improvement Act. This is authorized under the American Reinvestment and Recovery Act of 2009.

Federal Communications Commission.
William F. Caton,
Deputy Secretary,
Office of the Secretary,
Office of Managing Director.

[FR Doc. E9-28374 Filed 11-25-09 8:45 am]

BILLING CODE 6712-01-S